DEPARTMENT OF DEFENSE

Department of the Army

Notice of Availability (NOA) for the Record of Decision (ROD) for Activities Associated With Future Programs at the U.S. Army Dugway Proving Ground (DPG), Utah

AGENCY: Department of the Army, DOD.

ACTION: Record of decision.

SUMMARY: The Department of the Army announces the availability of its Record of Decision (ROD) for Activities Associated with Future Programs at the U.S. Army DPG. The ROD describes the Army's decisions with respect to the Proposed Action (implementation of DPG's planned mission for a 7-year time frame) and alternatives considered in the Environmental Impact Statement (EIS) and its rationale for the decision. Based on the EIS and other relevant factors, the Army has decided to implement its Proposed Action. The Proposed Action is the alternative that best fulfills DPG's statutory mission and responsibilities, giving consideration to economic, environmental, technical, and other factors. DPG will continue to implement its existing mitigation measures as well as measures described in the ROD to mitigate potential environmental and socioeconomic impacts caused by the Proposed Action.

ADDRESSES: Requests for copies of the ROD may be submitted to: U.S. Army Dugway Proving Ground, ATTN: CSTE-DTC-DP-PA (Paula Nicholson), Dugway, UT 84022-5000.

FOR FURTHER INFORMATION CONTACT: Ms. Paula Nicholson at (435) 831-3409 or by e-mail at nicholsn@dpg.army.mil.

SUPPLEMENTARY INFORMATION: The EIS was prepared to address the planned mission at DPG, the reasonable alternatives to the planned mission, and potential environmental impacts of DPG's future operations.

DPG is one of the few Army installations large and remote enough to permit comprehensive and realistic testing of biological and chemical defense systems, munitions and smokes, obscurants, and illuminants with a commitment to environmental protection and personal and public safety. Both DoD and non-DOD customers are posing challenges for DPG to support greater numbers of test and training events related to new enemy threats, next generation materiel, advanced conventional weapon systems, environmental concern, and demilitarization technologies.

The Proposed Action described and evaluated in the EIS is the implementation of DPG's planned mission. It includes continuation of existing DPG activities (including, but not limited to, chemical and biological defense testing, other testing programs, training, real property management, and environmental management) with future increases in most testing and training operating areas. Additionally, the Proposed Action includes diversification of DPG's operations and implementation of a Summary Development Plan identifying real property planning recommendations for DPG. The Proposed Action will enable DPG to effectively respond to the challenges of a growing and diversified mission.

In making its decision, the Army considered the results of the analysis in the EIS, including the evaluation of the other alternatives. The EIS considered the following two alternatives to the Proposed Action and the No Action Alternative: (1) Decreased mission with a major reduction in operations at DPG and (2) a maximum expanded mission with major increases in most operating areas compared to current operations. The No Action Alternative represents the status quo and assumes that existing DPG operations would continue at approximately their current rates into the foreseeable future. All comments provided during the formal public review and comment periods were also considered, as well as national security and mission requirements.

The consideration of future programs ensures that the general type and intensity of most of DPG's future activities were addressed. A range of factors such as future technology developments, available budgets, and changing defense threats often alter test plans. The Proposed Action within the Future Programs EIS includes only those activities that are reasonably foreseeable and for which DPG is the proponent or can make a decision about the activity. Specific program designations and equipment/materials to be tested may change between the time that the EIS was prepared and the actual test date. Accordingly, the EIS identifies the general characteristics of reasonably foreseeable test programs, rather than providing definitive and specific test information.

DPG will continue to implement its existing mitigation measures, as well as measures described in the ROD, to mitigate potential environmental and socioeconomic impacts caused by the Proposed Action. DPG and the Army are committed to protecting human health, sustaining their environments, and maintaining regulatory compliance.

Copies of the ROD and the Final EIS are available for review purposes only (no extra copies of the documents will be available at these locations) at the following libraries: Whitmore Library, 2197 East 7000 South (Ft. Union Blvd.), Salt Lake City; University of Utah, J. Willard Marriott Library, 15th East and South Campus Drive, Salt Lake City; Dugway Public Library, 5124 Kister Avenue, Dugway; Tooele City Public Library, 128 W. Vine Street, Tooele.

Dated: September 22, 2005.
Daphne Kamely,
Acting Deputy Assistant Secretary of the Army, (Environment, Safety and Occupational Health), OASA(I&E).

[FR Doc. 05-19246 Filed 9-26-05; 8:45 am]

BILLING CODE 3710-08-M